DEPARTMENT OF COMMERCE

National Oceanic and Atmospheric Administration

RIN 0648-XE027

Fisheries of the Caribbean, Gulf of Mexico, and South Atlantic; Snapper-Grouper Fishery off the South Atlantic States; Amendment 37

AGENCY: National Marine Fisheries Service (NMFS), National Oceanic and Atmospheric Administration (NOAA), Commerce.

ACTION: Notice of Intent (NOI) to prepare an environmental impact statement (EIS); request for comments; notice of scoping meetings.

SUMMARY: NMFS, Southeast Region, in collaboration with the South Atlantic Fishery Management Council (South Atlantic Council), intends to prepare an EIS to evaluate a range of alternative management actions in association with Amendment 37 to the Fishery Management Plan (FMP) for the Snapper-Grouper Fishery of the South Atlantic Region (Amendment 37). The purpose of this NOI is to solicit public comments on the scope of issues to be addressed in the EIS and to announce a scoping meeting.

DATES: The Council will discuss alternatives and take scoping comments at a public meeting held via webinar beginning at 6 p.m. on August 10, 2015.

Written comments on the scope of issues to be addressed in the EIS will be accepted until August 31, 2015.

ADDRESSES: Registration and technical information for the public scoping meeting held via webinar is found under the Scoping Meeting heading below.

Written comments may be submitted on the NOI identified by “NOAA-NMFS-2015-0083” by either of the following methods:

• Electronic submissions: Submit electronic comments via the Federal e-Rulemaking Portal. Go to www.regulations.gov/#!docketDetail;D=NOAA-NMFS-2015-0083, click the “Comment Now!” icon, complete the required fields, and enter or attach your comments.

• Mail: Submit written comments to Nikhil Mehta, NMFS Southeast Regional Office (SERO), 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Nikhil Mehta, NMFS SERO, telephone: 727-824-5305, or email: nikhil.mehta@noaa.gov. Kim Iverson, Public Information Officer, South Atlantic Fisheries Management Council, 4055 Faber Place Drive, Suite 201, North Charleston, SC 29405; telephone: 843-571-4376, or email: kim.iverson@safmc.net.

SUPPLEMENTARY INFORMATION: Currently, hogfish are managed under two FMPs. The Gulf of Mexico Fishery Management Council (Gulf of Mexico Council) manages one hogfish stock in the FMP for the Reef Fish Resources of the Gulf of Mexico. The South Atlantic Council manages the other hogfish stock in the FMP for the Snapper-Grouper Fishery of the South Atlantic Region. In August 2014, the Florida Fish and Wildlife Conservation Commission completed a benchmark stock assessment for hogfish as part of the Southeast Data, Assessment, and Review (SEDAR) process (SEDAR 37). Amendment 37 responds to the August 2014 benchmark stock assessment of hogfish that defined three separate stocks in the South Atlantic and Gulf of Mexico, including one stock that is subject to overfishing and is overfished. Amendment 37 and the associated EIS consider new reference points, status determination criteria, catch levels, and management measures for the two new stocks in the South Atlantic, including a rebuilding plan for the stock that is overfished.

In October 2014, the South Atlantic Council's Scientific and Statistical Committee (SSC) reviewed the stock assessment and provided recommended approaches for calculating fishing level recommendations, which the South Atlantic Council reviewed at their December 2014 meeting. Based on genetic evidence used in the stock assessment, the SSC supported the assessment's approach of defining two separate hogfish stocks in the South Atlantic, one stock off Georgia and North Carolina (GA-NC) and one stock off the Florida Keys and eastern Florida (FLK/EFL), and a third stock in the eastern Gulf of Mexico off the west coast of Florida (WFL).

The SSC determined that the stock assessment for the GA-NC stock does not represent the best scientific information available for determining stock status, i.e., whether the stock is subject to overfishing or is overfished, or for informing management decisions. Instead, they recommended that catch level recommendations for the GA-NC hogfish stock be developed using the Only Reliable Catch Stocks (ORCS) approach set forth in Level 4 of the Council's acceptable biological catch (ABC) control rule. Using the ORCS approach, the ABC for the GA-NC stock recommended by the SSC is 28,161 pounds whole weight (lb ww).

For the FLK/EFL stock, the SSC determined that the benchmark stock assessment represents the best scientific information available and recommended it for use in management decisions. The assessment results indicate the FLK/EFL stock is undergoing overfishing and is overfished.

Amendment 37 and the associated EIS consider and evaluate a number of management actions responding to this new scientific information and the recommendations from the South Atlantic Council's SSC. The management actions include modifying the hogfish management unit from one stock to two separate stocks in the South Atlantic, and defining individual stock boundaries, including the boundary between the FLK/EFL stock managed by the South Atlantic Council and the WFL stock managed by the Gulf of Mexico Council. These boundary demarcations will aid in enforcing regulations and in tracking the annual catch limits (ACLs) and annual catch targets (ACTs) for each stock.

On February 17, 2015, NMFS notified the South Atlantic and Gulf of Mexico Councils that the FLK/EFL stock is overfished and undergoing overfishing, based on the results of the 2014 benchmark stock assessment. Within two years of such a notification, the Magnuson-Stevens Fishery Conservation and Management Act (Magnuson-Stevens Act) requires an FMP amendment or proposed regulations be prepared and implemented to end overfishing immediately and to rebuild the affected stock. Therefore, Amendment 37 and the associated EIS also contain rebuilding plan alternatives to increase the biomass of the FLK/EFL stock to a sustainable level within a specified time period.

Finally, for both the FLK/EFL and GA-NC stocks, Amendment 37 and the associated EIS also contain alternatives for management reference points (optimum yield and maximum sustainable yield), status determination criteria (overfishing limit and minimum stock size threshold), ACLs (including by sector), ACTs, accountability measures, and new or modified commercial and recreational minimum size limits, commercial trip limits, and recreational bag limits.

In accordance with NOAA's Administrative Order 216-6, Section 5.02(c), Scoping Process, NMFS, in collaboration with the South Atlantic Council, is conducting scoping to help identify significant environmental issues related to these proposed actions and alternatives. The public is invited to attend the scoping meeting (date and address below) and provide written comments on the actions and alternatives in the Amendment 37 scoping document. A copy of the Amendment 37 scoping document is available at http://sero.nmfs.noaa.gov/sustainable_fisheries/s_atl/sg/index.html. The preliminary actions and alternatives included in the scoping document may not represent the full range of actions and alternatives that will be considered and evaluated in Amendment 37 and the associated EIS. The South Atlantic Council will review scoping comments at their September meeting.

After the draft EIS (DEIS) associated with Amendment 37 is completed, it will be filed with the Environmental Protection Agency (EPA). After filing, the EPA will publish a notice of availability of the DEIS for public comment in the Federal Register. NMFS will solicit public comment on the DEIS for 45 days pursuant to regulations issued by the Council on Environmental Quality (CEQ) for implementing the procedural provisions of the National Environmental Policy Act (NEPA; 40 CFR parts 1500-1508) and to NOAA's Administrative Order 216-6 regarding NOAA's compliance with NEPA and the CEQ regulations.

The South Atlantic Council and NMFS will consider public comments received on the DEIS in developing the final EIS (FEIS), and before the South Atlantic Council votes to submit Amendment 37 to NMFS for Secretarial review, approval, and implementation under the Magnuson-Stevens Act. NMFS will announce in the Federal Register the availability of the final amendment and proposed implementing regulations for public review during the Magnuson-Stevens Act Secretarial review period. The EPA will announce the availability of the FEIS for public review. NMFS will consider all public comments received during the Secretarial review period, whether they are on the final amendment, the proposed regulations, or the FEIS, prior to final agency action.

Scoping Meeting

The scoping meeting will be held via webinar on August 10, 2015. The scoping meeting will begin at 6 p.m. and will be accessible via the internet from the South Atlantic Council's Web site at www.safmc.net. Registration for the webinar is required. Registration information will be posted on the South Atlantic Council's Web site at www.safmc.net as it becomes available. Webinar registrants may test or confirm their computer setup for the webinar one hour prior to the meeting and contact Mike Collins at 843-763-1050 to address any questions regarding webinar setup.

Authority: 16 U.S.C. 1801 et seq.

Dated: July 27, 2015.
Emily H. Menashes,
Acting Director, Office of Sustainable Fisheries, National Marine Fisheries Service.

[FR Doc. 2015-18736 Filed 7-30-15; 8:45 am]

BILLING CODE 3510-22-P